DEPARTMENT OF ENERGY

Federal Energy Regulatory Commission

[Project No. 2205-006-VT]

Central Vermont Public Service Corporation; Notice of Availability of Supplemental Environmental Assessment

October 22, 2004.

In accordance with the National Environmental Policy Act of 1969 and the Federal Energy Regulatory Commission's Regulations, 18 CFR part 380 (Order No. 486, 52 F.R. 47879), the Office of Energy Projects has reviewed the settlement agreement filed on July 3, 2003, on the relicensing of the Lamoille Hydroelectric Project, located on the Lamoille River, in Franklin, Lamoille, and Chittenden Counties, Vermont, and has prepared an Environmental Assessment (EA) to supplement the EA issued on October 8, 1991.

The Supplemental EA contains our analysis of the potential effects of the existing project and concludes that licensing the project under the settlement agreement, with appropriate environmental measures, would not constitute a major federal action significantly affecting the quality of the human environment.

A copy of the Supplemental EA is on file with the Commission and is available for public inspection at the Commission in the Public Reference Room. The Supplemental EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 30 days from the issuance date of this notice, and should be addressed to the Secretary, Federal Energy Regulatory Commission, 888 First Street, NE., Room 1-A, Washington, DC 20426. Please affix “Lamoille Project No. 2205” to all comments. Comments may be filed electronically via Internet in lieu of paper. The Commission strongly encourages electronic filings. See 18 CFR 385.2001(a)(1)(iii) and the instructions on the Commission's Web site under the “e-Filing” link. For further information, contact John Smith at (202) 502-8972 or by e-mail at john.smith@ferc.gov.

Magalie R. Salas,
Secretary.

[FR Doc. E4-2885 Filed 10-27-04; 8:45 am]

BILLING CODE 6717-01-P